DEPARTMENT OF HEALTH AND HUMAN SERVICES

Office of Refugee Resettlement

Notice of Cancellation of the Fiscal Year (FY) 2004 Wilson-Fish Discretionary Grant Program Standing Announcement (HHS-2004-ACF-ORR-RW-0005)

AGENCY: Office of Refugee Resettlement, ACF, DHHS.

CFDA#: 93.583

Legislative Authority: This program is authorized by the Wilson/Fish Amendment, Public Law 98-473, 8 U.S.C. 1522(e)(7).

SUMMARY: This notice cancels the FY 2004 Wilson-Fish Discretionary Grant Program Standing Announcement (HHS-2004-ACF-ORR-RW-0005) that was published in the Federal Register of April 5, 2004 (69 FR 17692-01). The Wilson-Fish Announcement will be published in FY 2008 at the Administration for Children and Families' Grant Opportunities Web page at: http://www.acf.hhs.gov/grants/index.html and at http://www.grants.gov. The title of the new Announcement will be the Wilson-Fish Alternative Program Standing Announcement. The new Standing Announcement and application packages will also be available at http://www.grants.gov. Interested parties should register with http://www.grants.gov to receive e-mail alerts announcing publication, application due dates, and application requirements.

FOR FURTHER INFORMATION CONTACT: Carl Rubenstein, Wilson-Fish Program Manager, Office of Refugee Resettlement, Administration for Children and Families, 370 L'Enfant Promenade, SW., Washington, DC 20047. Telephone: (202) 205-5933. E-mail: Carl.Rubenstein@acf.hhs.gov.

Dated: February 11, 2008.
Brent R. Orrell,
Acting Director, Office of Refugee Resettlement.

[FR Doc. E8-2858 Filed 2-14-08; 8:45 am]

BILLING CODE 4184-01-P